OFFICE OF THE UNITED STATES TRADE REPRESENTATIVE

Notice of Issuance by the Free Trade Area of the Americas (FTAA) Committee of Government Representatives on the Participation of Civil Society of a Third Open Invitation for Public Comment

AGENCY: Office of the United States Trade Representative (USTR).

ACTION: Notice.

SUMMARY: The Office of the United States Trade Representative is providing notification that the Committee of Government Representatives on the Participation of Civil Society (Civil Society Committee), established by the 34 countries participating in the negotiations for the Free Trade Area of the Americas (FTAA), has issued an invitation for public comment throughout the Western Hemisphere on all aspects of the FTAA, including the preliminary draft consolidated texts of the FTAA Agreement, released on July 3, 2001; the on-going FTAA negotiations; and the FTAA process in general. Submissions in response to the Invitation should be sent directly to the FTAA addresses indicated below. This Third Open Invitation of the FTAA Civil Society Committee can be found on the USTR Web site, www.ustr.gov, and the FTAA Web site at www.ftaa-alca.org.

DATES: Public comment in response to the Third Open Invitation is welcome by the FTAA Civil Society Committee on an ongoing basis. However, in order for submissions to be reflected in the Committee's Report to the FTAA Ministers for their seventh meeting in Quito, Ecuador in October 2002, submissions must be received by the Chairperson of the FTAA Civil Society Committee no later than May 1, 2002. Contributions can be submitted by e-mail, fax, courier, or postal mail and must be accompanied by the submission cover sheet (printed below). In the interest of facilitating translation into the working languages of the FTAA (English and Spanish), distribution among the countries of the hemisphere, and analysis by the relevant national negotiators, it is highly recommended that contributions be submitted via e-mail or via electronic format (i.e. 3.5 diskette containing submission), to one of the addresses below. Contributions submitted by other means will be given equal consideration and every effort will be made to process the transmission of these documents expeditiously.

ADDRESSES: Submissions should be sent directly to the “Chair of the Committee of Government Representatives on the Participation of Civil Society”, at only one of the following addresses:

Via Electronic Mail:

soc@ftaa-alca.com

Via Postal Mail:

c/o Secretaria del Area de Libre Comercio de Las Americas (ALCA)

Apartado Postal 89-10044

Zona 9, Cuidad de Panama

Republica de Panama

Via Private Messenger/Courier Service:

c/o Secretaria del Area de Libre Comercio de Las Americas (ALCA)

Hotel Caesar Park Panama

Via Israel y Calle 77

San Francisco

Cuidad de Panama

Republica de Panama

Via Facsimile:

(011) (507) 270-6993

FOR FURTHER INFORMATION CONTACT: The official text of the Third Open Invitation for public comment and a cover sheet identifying information to be included with submissions to the Civil Society Committee are available on the USTR website and the official FTAA website. The cover sheet is reproduced below. The USTR and FTAA websites also contain background information regarding the FTAA process, including the Civil Society Committee's Report of April 2001 to the FTAA Trade Ministers as well as the Buenos Aires, Toronto, and San Jose Ministerial Declarations. Any questions concerning the FTAA negotiations or the Third Open Invitation should be addressed to USTR's Office of the Americas at (202) 395-5190.

SUPPLEMENTARY INFORMATION:

1. Background

Committee of Government Representatives on the Participation of Civil Society

At the 1998 FTAA Ministerial meeting in San Jose, Costa Rica, the hemisphere's trade ministers jointly recognized and welcomed the interests and concerns expressed by a broad spectrum of interested non-governmental parties in the hemisphere, and encouraged these and other parties to provide their views on trade matters related to the FTAA negotiations. In order to facilitate this process, the ministers agreed to establish the FTAA Civil Society Committee. At its first meeting in October 1998, and again in April 2000, the Committee approved Open Invitations soliciting views from the hemisphere's public. The Open Invitations were announced on the FTAA Web site, and countries agreed to use national mechanisms to disseminate the invitations further. In the United States, the invitations were disseminated through a variety of means, including press releases, letters to advisory committees, use of the Federal Register, and public meetings.

Prior to both the Toronto and Buenos Aires Ministerials, the Committee prepared reports for Ministers describing the submissions it received from the public. These reports have been published on the official FTAA Web site.

Buenos Aires Ministerial Mandate

At the Sixth FTAA Ministerial Meeting held in Buenos Aires, Argentina, on April 7, 2001, the ministers responsible for trade in the hemisphere reaffirmed their commitment to the principle of transparency in the FTAA process and recognized the need for increasing participation of the different sectors of civil society.

The Ministers underscored the importance of the FTAA Civil Society Committee as a mechanism for fulfilling their commitment to transparency, and welcomed the Committee's written report which presented the range of viewpoints received during the previous stage of negotiations from individuals and organizations from the hemisphere. The Second Report of the Committee to the Ministers may be found on the FTAA Web site.

The FTAA Civil Society Committee acknowledged the receipt of the contributions submitted in response to its Second Open Invitation to Civil Society (issued April 2000), and thanked all those organizations and persons who took the time and effort to contribute their views. Contributions which referred to specific issue areas, and those related to the FTAA process in general, were forwarded to the corresponding FTAA entities as listed on the attached cover sheet.

In view of the Ministerial mandate issued in April 2001 to the FTAA Civil Society Committee to foster a process of increasing and sustained participation of the different sectors of civil society, as well as the Committee's interest in the continued contribution by these sectors on issues of relevance to the FTAA, and taking into account the availability of the preliminary draft consolidated texts of the FTAA Agreement on the FTAA Web site, the FTAA Civil Society Committee issued on November 1, 2001 a Third Open Invitation to civil society in the Western Hemisphere for the submission of written contributions.

Public Release of FTAA Draft Texts

Western Hemisphere trade ministers decided at the Buenos Aires Ministerial meeting on April 7, 2001 to make public the FTAA preliminary draft consolidated texts. That decision was endorsed by the hemisphere's leaders at the Quebec Summit of the Americas on April 20-22, 2001. The ministers' decision to publish the text necessitated the translation of the preliminary draft consolidated texts produced by the nine Negotiating Groups (market access; agriculture; services; intellectual property rights; investment; government procurement; competition policy; dispute settlement; and subsidies, antidumping and countervailing duties) into the four official languages of the FTAA: English, Spanish, French, and Portuguese. The text was made available on July 3, 2001 on the USTR Web site and on the official FTAA Web site in all four languages. The preliminary draft consolidated texts contain many brackets, indicating that the text enclosed by such brackets has not been agreed to by all FTAA governments. The Trade Policy Staff Committee previously issued a Federal Register notice [66 FR 134 of July 12, 2001] inviting comment from the U.S. public on the preliminary draft consolidated texts.

2. Invitation for Public Comments

The FTAA Civil Society Committee issued a Third Open Invitation to the public in the Western Hemisphere for comments on the FTAA process on November 1, 2001. The U.S. Government encourages wide participation in this process, and will ensure that U.S. negotiators review all submissions for consideration in the ongoing FTAA negotiations. The Third Invitation is an important part of U.S. efforts to ensure that the views of the public receive consideration in the FTAA negotiating process. Public comment in response to the Third Open Invitation is welcome by the FTAA Civil Society Committee on an ongoing basis. Comments received by the Committee through May 1, 2002 will form the basis for the Committee's next report to the FTAA Trade Ministers.

In order to be considered, each submission must:

• Identify the submitter(s), specifying name(s) and contact information;

• Make reference to matters relating to the FTAA process and/or the draft FTAA Agreement;

• Be in written form, in at least one of the official FTAA languages (Spanish, English, French, Portugese);

• Be accompanied by the cover sheet which follows (and also is available on the USTR and FTAA Web sites), with an indication of the FTAA entit(y)(ies) to which the contribution pertains;

• If greater than five pages, include an executive summary, no longer than two pages, which summarizes and identifies the issues considered in the document. (The FTAA Secretariat will translate executive summaries and contributions if less than five pages. Contributions longer than five pages will only be available to FTAA entities in the submission's original language.);

• Be sent directly to the Chair of the Committee of Government Representatives on the Participation of Civil Society at one of the above addresses.

Regina K. Vargo,
Assistant United States Trade Representative for the Office of the Americas.

BILLING CODE 3901-01-P

[FR Doc. 01-28260 Filed 11-9-01; 8:45 am]

BILLING CODE 3901-01-C